NATIONAL SCIENCE FOUNDATION

National Science Board; Committee on Strategy and Budget; Sunshine Act Meeting

DATE AND TIME: August 4, 2006; 9 a.m.-10 a.m. (ET).

PLACE: National Science Foundation, Room 1235, 4201 Wilson Boulevard, Arlington, VA 22230.

FOR FURTHER INFORMATION CONTACT: Dr. Robert Webber, (703) 292-7000. http://www.nsf.gov/nsb.

STATUS: This meeting will be closed to the public.

Agenda

Teleconference discussion of the National Science Foundation's FY 2008 budget submission to the Office of Management and Budget.

Russell Moy,
Attorney Advisor.

[FR Doc. 06-6534 Filed 7-25-06; 11:10 am]

BILLING CODE 7555-01-P